DEPARTMENT OF TRANSPORTATION

Federal Aviation Administration

Agency Information Collection Activities: Requests for Comments; Clearance of Renewed Approval of Information Collection: Automatic Dependent Surveillance Broadcast (ADS-B) Out Performance Requirements To Support Air Traffic Control (ATC) Service

AGENCY: Federal Aviation Administration (FAA), DOT.

ACTION: Notice and request for comments.

SUMMARY: In accordance with the Paperwork Reduction Act of 1995, FAA invites public comments about our intention to request the Office of Management and Budget (OMB) approval to renew a previously approved information collection. The final rule titles “Automatic Dependent Surveillance Broadcast (ADS-B) Equipage Mandate to Support Air Traffic Control Service”, requires performance requirements for certain avionics equipment on aircraft operating in specified classes of airspace within the United States national Airspace System. The rule facilitates the use of ADS-B for aircraft surveillance by FAA air traffic controllers to accommodate the expected increase in demand for air transportation.

DATES: Written comments should be submitted by February 13, 2017.

ADDRESSES: Send comments to the FAA at the following address: Ronda Thompson, Room 441, Federal Aviation Administration, ASP-110, 950 L'Enfant Plaza SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION:

OMB Control Number: 2120-0728.

Title: Automatic Dependent Surveillance Broadcast (ADS-B) Out Performance Requirements to Support Air Traffic Control (ATC) Service.

Form Numbers:

Type of Review: Renewal of an information collection.

Background: 14 CFR part 91 includes requirements for certain avionics equipment avionics equipment on aircraft operating in specified classes of airspace within the United States National Airspace System (NAS) This collection supports the information needs of the FAA by requiring avionics equipment that continuously transmits aircraft information to be received by the FAA, via automation, for use in providing air traffic surveillance services. This information is collected electronically without input from the human operator. Old information is overwritten on a continuous basis. A 1-hour burden is submitted as a placeholder to allow entry in OMB's burden inventory.

Respondents: Approximately 64,339 operators.

Frequency: Information is collected automatically.

Estimated Average Burden per Response: 1 hour (placeholder).

Estimated Total Annual Burden: 1 hour (placeholder).

Issued in Washington, DC, on December 8, 2016.
Ronda L Thompson,
FAA Information Collection Clearance Officer, Performance, Policy, and Records Management Branch, ASP-110.

[FR Doc. 2016-29993 Filed 12-13-16; 8:45 am]

BILLING CODE 4910-13-P